DEPARTMENT OF THE INTERIOR

Fish and Wildlife Service

[FWS-R1-ES-2009-N115; 10120-1113-0000-F5]

Endangered Wildlife and Plants; Permits

AGENCY: Fish and Wildlife Service, Interior.

ACTION: Notice of availability of application for permit; request for comments.

SUMMARY: We, the U.S. Fish and Wildlife Service (Service), invite the public to comment on the following application for a permit to conduct certain activities with endangered species under the Endangered Species Act of 1973, as amended (Act), which requires that we invite public comment on the permit application.

DATES: We must receive your written data or comments by July 23, 2009.

ADDRESSES: Program Manager, Endangered Species, Ecological Services, U.S. Fish and Wildlife Service, 911 NE., 11th Avenue, Portland, OR 97232-4181.

FOR FURTHER INFORMATION CONTACT: Grant Canterbury, Fish and Wildlife Biologist, at the above address or by telephone (503-231-2071) or fax (503-231-6243).

SUPPLEMENTARY INFORMATION: The following applicant has applied for a scientific research permit to conduct certain activities with endangered species under section 10(a)(1)(A) of the Act (16 U.S.C. 1531 et seq.). We solicit review and comment from local, State, and Federal agencies and the public.

Permit No.: TE188214.

Applicant: Richard Pender.

The applicant requests a scientific research permit to remove and reduce to possession Clermontia lindseyana (′oha wai) in conjunction with research in the State of Hawaii, for the purpose of enhancing its survival.

Public Comments

Please refer to the permit number for the application when submitting comments.

We solicit public review and comment on this recovery permit application. Before including your address, phone number, e-mail address, or other personal identifying information in your comment, you should be aware that your entire comment—including your personal identifying information—may be made publicly available at any time. While you can ask us in your comment to withhold your personal identifying information from public review, we cannot guarantee that we will be able to do so.

Comments and materials we receive will be available for public inspection, by appointment, during normal business hours at the above address.

Dated: June 9, 2009.
David J. Wesley,
Acting Regional Director, Region 1, U.S. Fish and Wildlife Service.

[FR Doc. E9-14668 Filed 6-22-09; 8:45 am]

BILLING CODE 4310-55-P